DEPARTMENT OF COMMERCE

International Trade Administration

[A-552-801]

Certain Frozen Fish Fillets From the Socialist Republic of Vietnam; 2017-2018; Rescission of the Antidumping Duty Administrative Review in Part

AGENCY: Enforcement and Compliance, International Trade Administration, Department of Commerce.

SUMMARY: The Department of Commerce (Commerce) is rescinding the administrative review, in part, of the antidumping duty order on certain frozen fish fillets (fish fillets) from the Socialist Republic of Vietnam (Vietnam) for the period August 1, 2017, through July 31, 2018.

DATES: Applicable March 13, 2019.

FOR FURTHER INFORMATION CONTACT: Carrie Bethea or Genevieve Coen, AD/CVD Operations, Office V, Enforcement and Compliance, International Trade Administration, U.S. Department of Commerce, 1401 Constitution Avenue NW, Washington, DC 20230; telephone: (202) 482-1491 or (202) 482-3251, respectively.

SUPPLEMENTARY INFORMATION:

Background

On August 7, 2018, Commerce published a notice of opportunity to request an administrative review of the antidumping duty order on fish fillets from Vietnam.¹ Pursuant to requests from interested parties, Commerce initiated an administrative review with respect to 76 companies for the period August 1, 2017 through July 31, 2018.² Commerce exercised its discretion to toll all deadlines affected by the partial federal government closure from December 22, 2018, through the resumption of operations on January 29, 2019.³ If the new deadline falls on a non-business day, in accordance with Commerce's practice, the deadline will become the next business day. The revised deadline for a party to withdraw a request for review was February 11, 2019.⁴

¹ See Antidumping or Countervailing Duty Order, Finding, or Suspended Investigation; Opportunity to Request Administrative Review, 83 FR 38682 (August 7, 2018).

² See Initiation of Antidumping and Countervailing Duty Administrative Reviews, 83 FR 50077 (October 4, 2018) (Initiation Notice).

³ See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁴ Id.

Withdrawal of Review Requests

Between December 20, 2018 and February 8, 2019, Commerce received requests for withdrawal from the petitioners ⁵ and respondents,⁶ resulting in the withdrawal of all requests for administrative review for 52 companies. Included below is a more detailed explanation of the individual withdrawal requests that were received between December 20, 2018 and February 8, 2019.

⁵ Catfish Farmers of America and individual U.S. catfish processors America's Catch, Alabama Catfish, LLC d/b/a Harvest Select Catfish, Inc., Consolidated Catfish Companies, LLC d/b/a Country Select Catfish, Delta Pride Catfish, Inc., Guidry's Catfish, Inc., Heartland Catfish Company, Magnolia Processing, Inc. d/b/a Pride of the Pond, and Simmons Farm Raised Catfish, Inc. (collectively, the petitioners).

⁶ Of all respondents, only Bien Dong Seafood Company, Ltd. and Vinh Hoan Corporation filed withdrawal requests.

On December 20, 2018, Bien Dong Seafood Company, Ltd. (Bien Dong) withdrew its request for administrative review.⁷ On December 20, 2018, the petitioners withdrew their request for an administrative review for Bien Dong.⁸ On December 27, 2018, Vinh Hoan Corporation (Vinh Hoan) withdrew its request for an administrative review.⁹ On December 31, 2018, the petitioners withdrew their request for an administrative review for Vinh Hoan.¹⁰ The petitioners withdrew their request for an administrative review for additional companies in filings on January 2, 2019,¹¹ and February 8, 2019,¹² as listed in the Appendix.¹³ There is no active review request for these companies.

⁷ See Bien Dong's Letter “Withdrawal of Request for Administrative Review,” dated December 20, 2018. While Bien Dong's request for review only named itself under the alternate spelling Bien Dong Seafood Co., Ltd., Bien Dong requested the review be rescinded for all variation of Bien Dong's name listed in the Initiation Notice, as well as its affiliate Bien Dong Hau Giang Seafood Joint Stock Company.

⁸ See the Petitioners' Letter “Partial Withdrawal of Request for Administrative Review of Antidumping Duty Order,” dated December 20, 2018. The petitioners withdrew their requests for Bien Dong Seafood Company Ltd., Bien Dong Hau Giang Seafood Joint Stock Company, and their respective “also known as (AKA)” names as stated in the petitioners' request for review.

⁹ See Vinh Hoan's Letter “Withdraw of Request for Administrative Review—Vinh Hoan Corporation,” dated December 27, 2018.

¹⁰ See the Petitioners' Letter “Partial Withdrawal of Request for Administrative Review of Antidumping Duty Order,” dated December 31, 2018 (withdrawing review as to Vinh Hoan and several related companies: Thanh Binh Dong Thap One Member Company Limited; Van Duc Food Export Joint Stock Company; Van Duc Tien Giang Food Export Company; and their respective AKA names).

¹¹ See the Petitioners' Letter “Partial Withdrawal of Request for Administrative Review of Antidumping Duty Order,” dated January 2, 2019. Of the companies petitioners withdrew upon in this filing, 37 respondents had no other requests for review.

¹² See the Petitioners' Letter, “Partial Withdrawal of Request for Administrative Review of Antidumping Duty Order,” dated February 8, 2019. No other parties requested a review of these respondents.

¹³ See the Petitioners' Letter, “Partial Withdrawal of Request for Administrative Review of Antidumping Duty Order,” dated February 8, 2019. No other parties requested a review of these respondents.

Partial Rescission of Administrative Review

Pursuant to 19 CFR 351.213(d)(1), Commerce will rescind an administrative review, in whole or in part, if the party that requested a review withdraws its request within 90 days of the date of publication of the notice of initiation. All review requests were withdrawn for 52 companies, as detailed above. Therefore, Commerce is rescinding this review with respect to those 52 companies, in accordance with 19 CFR 351.213(d)(1).¹⁴ The review will continue with respect to the 24 other firms for which a review was requested and initiated.

¹⁴ See Appendix for a full list of the rescinded companies.

Assessment

Commerce will instruct U.S. Customs and Border Protection (CBP) to assess antidumping duties on all appropriate entries. For the companies for which this review is rescinded, antidumping duties shall be assessed at rates equal to the cash deposit of estimated antidumping duties required at the time of entry, or withdrawal from warehouse for consumption, in accordance with 19 CFR 351.212(c)(l)(i). Commerce intends to issue appropriate assessment instruction to CBP 15 days after publication of this notice.

Notification to Importers

This notice serves as a reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction. This notice is issued and published in accordance with sections 751 and 777(i)(l) of the Tariff Act of 1930, as amended, and 19 CFR 351.213(d)(4).

Dated: March 7, 2019.
James Maeder,
Associate Deputy Assistant Secretary for Antidumping and Countervailing Duty Operations, performing the duties of Deputy Assistant Secretary for Antidumping and Countervailing Duty Operations.

Appendix—Companies for Which Commerce Is Rescinding the Review

• An Giang Fisheries Import and Export Joint Stock Company (also known as Agifish, AnGiang Fisheries Import and Export, or An Giang Fisheries Import & Export Joint Stock Company)

• An Phat Import-Export Seafood Co., Ltd. (also known as An Phat Seafood Co. Ltd. or An Phat Seafood Co., Ltd.)

• Anvifish Joint Stock Company (also known as Anvifish, Anvifish JSC, or Anvifish Co., Ltd.)

• Asia Pangasius Company Limited (also known as ASIA)

• Basa Joint Stock Company (also known as BASACO

• Ben Tre Aquaproduct Import and Export Joint Stock Company (also known as Bentre Aquaproduct, Bentre Aquaproduct Import & Export Joint Stock Company or Aquatex Bentre)

• Bentre Forestry and Aquaproduct Import Export Joint Stock Company (also known as Bentre Forestry and Aquaproduct Import and Export Joint Stock Company, Ben Tre Forestry and Aquaproduct Import-Export Joint Stock Company, Ben Tre Forestry and Aquaproduct Import-Export Company or Ben Tre Forestry Aquaproduct Import-Export Company or Ben Tre Frozen Aquaproduct Export Company or Faquimex)

• Bien Dong Hau Giang Seafood Joint Stock Company (also known as Bien Dong HG or Bien Dong Hau Giang Seafood Joint Stock Co.)

• Bien Dong Seafood Company Ltd. (also known as Bien Dong, Bien Dong Seafood, Bien Dong Seafood Co., Ltd., Biendong Seafood Co., Ltd., or Bien Dong Seafood Limited Liability Company)

• Binh Dinh Import Export Company (also known as Binh Dinh)

• Cadovimex II Seafood Import-Export and Processing Joint Stock Company (also known as Cadovimex II, Cadovimex II Seafood Import-Export, Cadovimex II Seafood Import Export and Processing Joint Stock Company, or Cadovimex II Seafood Import-Export & Processing Joint Stock Company)

• Cafatex Corporation (also known as Cafatex)

• Can Tho Animal Fishery Products Processing Export Enterprise (also known as Cafatex)

• C.P. Vietnam Corporation

• Dai Thanh Seafoods Company Limited (also known as DATHACO, Dai Thanh Seafoods, or Dai Thanh Seafoods Co., Ltd.)

• Europe Joint Stock Company (also known as Europe JSC or EJS CO.)

• Go Dang An Hiep One Member Limited Company

• Go Dang Ben Tre One Member Limited Liability Company

• Green Farms Seafood Joint Stock Company (also known as Green Farms, Green Farms Seafood JSC, GreenFarm SeaFoods Joint Stock Company, or Green Farms Seafoods Joint Stock Company)

• Hai Huong Seafood Joint Stock Company (also known as HHFish, HH Fish, or Hai Huong Seafood)

• Hoang Long Seafood Processing Company Limited (also known as HLS, Hoang Long, Hoang Long Seafood, HoangLong Seafood, or Hoang Long Seafood Processing Co., Ltd.)

• Hung Vuong Ben Tre Seafood Processing Company Limited. (also known as Ben Tre, HVBT, or HVBT Seafood Processing)

• Hung Vuong Corporation (also known as HVC or HV Corp.)

• Hung Vuong Joint Stock Company

• Hung Vuong Mascato Company Limited

• Hung Vuong—Mien Tay Aquaculture Corporation (also known as HVMT or Hung Vuong Mien Tay Aquaculture Joint Stock Company)

• Hung Vuong—Sa Dec Co., Ltd. (also known as Hung Vuong Sa Dec Company Limited)

• Hung Vuong Seafood Joint Stock Company

• Hung Vuong—Vinh Long Co., Ltd. (also known as Hung Vuong Vinh Long Company Limited)

• Lian Heng Investment Co., Ltd. (also known as Lian Heng or Lian Heng Investment)

• Lian Heng Trading Co., Ltd. (also known as Lian Heng or Lian Heng Trading)

• Nam Phuong Seafood Co., Ltd. (also known as Nam Phuong, NAFISHCO, Nam Phuong Seafood, or Nam PhuongSeafood Company Ltd.)

• Nha Trang Seafoods, Inc. (also known as Nha Trang Seafoods, Nha Trang Seafoods-F89, or Nha Trang Seaproduct Company)

• NTACO Corporation (also known as NTACO or NTACO Corp.)

• QVD Dong Thap Food Co., Ltd. (also known as Dong Thap or QVD DT)

• QVD Food Company, Ltd. (also known as QVD, QVD Food Co., Ltd., or QVD Aquaculture)

• Seafood Joint Stock Company No. 4 Branch Dongtam Fisheries Processing Company (also known as DOTASEAFOODCO or Seafood Joint Stock Company No. 4—Branch Dong Tam Fisheries Processing Company)

• Seavina Joint Stock Company (also known as Seavina)

• Southern Fishery Industries Company, Ltd. (also known as South Vina, South Vina Co., Ltd., Southern Fishery Industries Co., Ltd., Southern Fisheries Industries Company, Ltd., or Southern Fisheries Industries Company Limited)

• Thanh Binh Dong Thap One Member Company Limited (also known as Thanh Binh Dong Thap or Thanh Binh Dong Thap Ltd.)

• Thanh Hung Co., Ltd. (also known as Thanh Hung Frozen Seafood Processing Import Export Co., Ltd. or Thanh Hung)

• Thien Ma Seafood Co., Ltd (also known as THIMACO, Thien Ma, Thien Ma Seafood Company, Ltd., or Thien Ma Seafoods Co., Ltd.)

• Thuan An Production Trading and Service Co., Ltd. (also known as TAFISHCO, Thuan An Production Trading and Services Co., Ltd., Thuan An Production & Trading Service Co., Ltd., or Thuan An Production Trading & Services Co., Ltd.)

• Thuan Hung Co., Ltd. (also known as THUFICO)

• Van Duc Food Export Joint Stock Company (also known as Van Duc)

• Van Duc Tien Giang Food Export Company (also known as VDTG)

• Viet Hai Seafood Company Limited (also known as Viet Hai, Viet Hai Seafood Co., Ltd., Viet Hai Seafood Co., Vietnam Fish-One Co., Ltd., Vietnam Fish One Co., Ltd., or Fish One)

• Viet Phu Foods and Fish Corporation (also known as Vietphu, Viet Phu, Viet Phu Food and Fish Corporation, or Viet Phu Food & Fish Corporation)

• Viet Phu Foods & Fish Co., Ltd.

• Vinh Hoan Corporation (also known as Vinh Hoan, Vinh Hoan Co., or Vinh Hoan Corp.)

• Vinh Long Import-Export Company (also known as Vinh Long, Imex Cuu Long, Vinh Long Import/Export Company)

• Vinh Quang Fisheries Corporation (also known as Vinh Quang, Vinh Quang Fisheries Corp., Vinh Quang Fisheries Joint Stock Company, or Vinh Quang Fisheries Co., Ltd.)

[FR Doc. 2019-04623 Filed 3-12-19; 8:45 am]

BILLING CODE 3510-DS-P